DEPARTMENT OF ENERGY

Federal Energy Regulatory Commission

[Project Nos. 2699-001, 2019-017, & 11563-002—CA]

Northern California Power Agency; Utica Power Authority; Notice of Availability of Environmental Assessment

Issued: May 29, 2002.

In accordance with the National Environmental Policy Act of 1969 and the Federal Energy Regulatory Commission's (Commission) regulations, 18 CFR part 380 (Order No. 486, 52 FR 47897), the Office of Energy Projects has reviewed the applications for licenses for the Angels Hydroelectric Project, Utica Hydroelectric Project, and the Upper Utica Project. Commission staff, with the U.S. Forest Service as a cooperating agency, has prepared an Environmental Assessment (EA) for the project. These projects are located on the North Fork Stanislaus River, Silver Creek, Mill Creek, and Angels Creek in Alpine, Calaveras, and Tuolumne Counties, California, partially within the Stanislaus National Forest.

The EA contains the our analysis of the potential environmental impacts of the project and concludes that licensing the project, with appropriate environmental protective measures, would not constitute a major federal action that would significantly affect the quality of the human environment.

A copy of the EA is on file with the Commission and is available for public inspection. The DEA may also be viewed on the Web at http://www.ferc.gov using the “RIMS” link—select “Docket #” and follow the instructions (call 202-208-2222 for assistance).

Any comments should be filed within 60 days from the date of this notice and should be addressed to Magalie R. Salas, Secretary, Federal Energy Regulatory Commission, 888 First Street, NE, Washington, DC 20426. Please affix Project Nos. 2699-001, 2019-017, & 11563-002 to all comments. Comments may be filed electronically via the Internet in lieu of paper. See 18 CFR 385.2001(a)(1)(iii) and the instructions on the Commission's Web site under the “e-Filing” link.

For further information, contact Timothy Welch at (202) 219-2666.

Linwood A. Watson, Jr.,
Deputy Secretary.

[FR Doc. 02-13912 Filed 6-3-02; 8:45 am]

BILLING CODE 6717-01-P